DEPARTMENT OF THE INTERIOR

Bureau of Land Management

[CO-100-1060-JJ]

Helicopter and Motorized Vehicle Use While Capturing Wild Horses and Burros; Public Hearings (43 CFR 4740.1)

AGENCY: Bureau of Land Management, Department of the Interior.

ACTION: Notice of public hearings.

SUMMARY: A public hearing addressing the use of motorized vehicles and helicopters during the capture of wild horses from the Sand Wash Wild Horse Herd Management Area has been scheduled in Craig, Colorado.

DATES: The hearing date is scheduled as follows:

June 22, 2005; 6:30 p.m.; Craig, Colorado.

ADDRESSES: The hearing will be held at the following location:

Little Snake Field Office; 455 Emerson Street; Craig, Colorado.

FOR FURTHER INFORMATION CONTACT: Valerie Dobrich, Wild Horse and Burro Specialist at (970) 878-3839.

SUPPLEMENTARY INFORMATION: Immediately following the hearing there will be a public meeting to serve as a platform for discussion of the proposed wild horse gather. The Sand Wash wild horse gather is scheduled for completion in September 2005.

Dated: April 4, 2005.
David E. Blackstun,
Associate Field Manager.

[FR Doc. 05-9087 Filed 5-5-05; 8:45 am]

BILLING CODE 4310-JB-P